DEPARTMENT OF ENERGY

Federal Energy Regulatory Commission

[Docket No. CP24-37-000]

Columbia Gulf Transmission, LLC; Notice of Schedule for the Preparation of an Environmental Assessment for the Proposed Amoco South Pecan Lake Abandonment Project

On January 16, 2024, Columbia Gulf Transmission, LLC (Columbia Gulf) filed an application in Docket No. CP24-37-000 requesting an Authorization pursuant to Section 7(b) of the Natural Gas Act involving abandonment of approximately 21 miles of pipeline and related appurtenances in Cameron Parish, Louisiana.

On January 26, 2024, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA June 20, 2024

90-day Federal Authorization Decision Deadline ² September 18, 2024

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Columbia Gulf proposes to abandon in place and abandon by removal approximately 21 miles of pipeline and related appurtenances, located in Cameron Parish, Louisiana. According to Columbia Gulf, abandonment will eliminate the need for future operating and maintenance expenditures on outdated facilities that are no longer needed to satisfy current firm service obligations. Abandonment of these facilities will not change the certificated capacity of Columbia Gulf's system and will not result in the termination or reduction of service to existing customers of Columbia Gulf.

The Project would consist of the following activities:

• Abandon in place and by removal approximately 16 miles of its 16-inch-diameter South Pecan Lake Pipeline;

• Abandon by removal approximately 1 mile of its 12-inch-diameter Amoco/South Pecan Lake Pipeline;

• Abandon by removal approximately 4 miles of its 6-inch-diameter Go Around Bayou Pipeline;

• Abandon by removal all of the facilities at the South Pecan Lake metering and regulating station (M&R) No. 505 and Goodrich M&R No. 4144; and

• Abandon by removal other related appurtenances.

Background

On February 7, 2024, the Commission issued a Notice of Scoping Period Requesting Comments on Environmental Issues for the Proposed Amoco South Pecan Lake Abandonment Project (Notice of Scoping). The Notice of Scoping was sent to affected landowners; federal, state, and local government agencies; elected officials; environmental and public interest groups; Native American tribes; other interested parties; and local libraries and newspapers. In response to the Notice of Scoping, we received comments by a landowner, James Guinn; the Mississippi Band of the Choctaw Indians; and U.S. Fish and Wildlife Service. The primary issues raised were abandonment in place procedures and addressing unanticipated discoveries of cultural resources. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-37), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 21, 2024.
Debbie-Anne A. Reese,
Acting Secretary.

[FR Doc. 2024-06560 Filed 3-27-24; 8:45 am]

BILLING CODE 6717-01-P